DEPARTMENT OF HEALTH AND HUMAN SERVICES

Administration for Children and Families

45 CFR Part 412

[Docket #2024-27626]

RIN 0970-AD10

Investigations of Child Abuse and Neglect Rule; Correction

AGENCY: Office of Refugee Resettlement (ORR), Administration for Children and Families (ACF), U.S. Department of Health and Human Services (HHS).

ACTION: Interim final rule; correction.

SUMMARY: ORR is correcting an interim rule (IFR) that was published in the Federal Register on November 27, 2024 with an effective date of December 27, 2024. The Investigations of Child Abuse and Neglect IFR provides standards and processes for ORR to apply when it conducts investigations into allegations of child abuse and neglect that occur in certain care provider facilities funded by ORR to provide residential and other services for unaccompanied children; describes a process for appeal and review of substantiated allegations; and establishes an ORR Central Registry to list individuals with certain findings of child abuse and neglect that have been substantiated and sustained after exhausting the appeal and review process.

DATES: Effective December 27, 2024.

FOR FURTHER INFORMATION CONTACT: Toby Biswas, Director of Policy, Unaccompanied Children Bureau, Office of Refugee Resettlement, Administration for Children and Families, Department of Health and Human Services, Washington, DC, (202) 205-4440 or UCPolicy-RegulatoryAffairs@acf.hhs.gov.

SUPPLEMENTARY INFORMATION: In the interim final rule published November 27, 2024, there were two technical errors that are now identified and corrected in this document. The provisions in this correction document are effective as if they had been included in the document published November 27, 2024. Accordingly, the following corrections are effective December 27, 2024.

In FR Doc. 2024-27626, appearing on page 93498 in the Federal Register of November 27, 2024, the following corrections are made:

Corrections to the Preamble

1. On page 93498, in the third column, the text “Instructions: To submit your comments online, go to https://www.regulations.gov and insert `XXXX-XXXX-XXXX' in the `Search' box.” is corrected to read “Instructions: To submit your comments online, go to https://www.regulations.gov and insert `ACF-2024-0014' in the `Search' box.”

2. On page 93498, in the third column, the text “Docket: To view posted comments, as well as documents mentioned in this preamble as being available in the docket, go to https://www.regulations.gov and insert `XXXX-XXXX-XXXX' in the `Search' box.” is corrected to read “Docket: To view posted comments, as well as documents mentioned in this preamble as being available in the docket, go to https://www.regulations.gov and insert `ACF-2024-0014' in the `Search' box.”

3. On page 93512, in the first column, in the first sentence of the first full paragraph, “At § 412.102(c), ORR is establishing a process for substantiated perpetrators at Tier I or Tier II to appeal of ORR's disposition” is corrected to read “At § 412.102(c), ORR is establishing a process for substantiated perpetrators at Tier I or Tier II to appeal ORR's disposition.”

4. On page 93512, in the third column, in the first full paragraph, “The ALJ will issue a written decision upholding, modifying, or reversing the ORR's disposition.” is corrected to read “The ALJ will issue a written decision upholding, modifying, or reversing ORR's disposition.”

5. On page 93512, in the third column, the text “Under § 412.102(e)(1), a substantiated perpetrator at Tier I or Tier II may request review of the ALJ's decision within 30 days of receipt of the ALJ's decision, by filing a request for review with Office of the Assistant Secretary for ACF.” is corrected to read “Under § 412.102(e)(1), a substantiated perpetrator at Tier I or Tier II may request review of the ALJ's decision within 30 days of receipt of the ALJ's decision, by filing a request for review with the Office of the Assistant Secretary for ACF.”

6. On page 93513, in the first full sentence of the first column, the text “Under § 412.102(e)(2), the Assistant Secretary has discretion, within 30 days after receiving a timely request for review of an ALJ's decision under § 412.102(e)(1), to review the ALJ's decision and to dismiss a request for review based on untimeliness or other procedural defects, or to affirm, modify, or reverse the ALJ's decision with regard to dismissal or ORR's disposition of the allegation.” is corrected to read “Under § 412.102(e)(2), the Assistant Secretary has discretion, within 30 days after receiving a timely request for review of an ALJ's decision under § 412.102(e)(1), to review the ALJ's decision to dismiss a request for review based on untimeliness or other procedural defects, and to affirm, modify, or reverse the ALJ's decision with regard to dismissal or ORR's disposition of the allegation.”

7. On page 93517, in the first column, the List of Subjects in corrected to read:

“List of Subjects in 45 CFR Part 412

Administrative practice and procedure, Aliens, Child welfare, Reporting and recordkeeping requirements, Unaccompanied children.”

Corrections to the Regulatory Text

PART 412—[Amended]

1. On page 93517, in the first column, add the authority citation for part 412 following the table of contents for the part to read as follows:

“Authority: 6 U.S.C. 279.”

2. On page 93520, in the second column, in § 412.101, paragraph (c) is corrected to read as follows:

§ 412.101 [Corrected]

* * * * *

(c) Disciplinary sanctions. Care provider facilities must implement appropriate disciplinary or remedial measures where they or ORR find that care provider facility staff, contractors or sub-grantees of the care provider facility, or care provider facility volunteers engaged in conduct that does not rise to the level of a Tier I substantiated allegation, as defined at § 412.001, but nevertheless raises child welfare concerns.

* * * * *

3. On page 93521, in § 412.102:

a. In the first column, paragraph (d)(1) is corrected;

b. In the second column, paragraphs (d)(7) and (8) are corrected; and

c. In the third column, paragraphs (e)(1) and (6) are corrected.

The corrections read as follows:

§ 412.102 [Corrected]

* * * * *

(d) * * *

(1) When a substantiated perpetrator at Tier I or Tier II appeals ORR's disposition to an ALJ pursuant to paragraph (c)(1)(i) of this section, ORR must transmit to the ALJ all of the evidence upon which the disposition was based.

* * * * *

(7) The ALJ shall conduct a fair and impartial hearing and de novo review to determine whether the substantiated perpetrator met their burden of establishing that, considering the totality of the evidence, there is not a preponderance of the evidence to support the substantiated allegation. The ALJ may either dismiss the case for untimeliness, withdrawal of the appeal, abandonment of the appeal, or because the individual does not have the right to appeal or because of other procedural defects, or will issue a written decision to uphold, modify, or reverse ORR's disposition.

(8) The ALJ shall serve a copy of the decision upon the parties and the Assistant Secretary for ACF. The ALJ's decision shall provide the sustained perpetrator at Tier I or Tier II and their attorney, if any, with instructions for requesting review by the Assistant Secretary for ACF. The ALJ also shall provide a copy of the decision to the alleged victim and the alleged victim's parent(s), legal guardian(s) (as appropriate), or sponsor(s). The complete record upon which the decision is based shall be made available to the Assistant Secretary

* * * * *

(e) * * *

(1) A substantiated perpetrator at Tier I or Tier II may request a review of the ALJ's decision within 30 days of receipt of the ALJ's decision, by filing a request for review with the Office of the Assistant Secretary for ACF.

* * * * *

(6) The Office of the Assistant Secretary for ACF shall serve a copy of the final decision upon the parties involved. The Office of the Assistant Secretary for ACF also shall provide a copy of the final decision issued by the Assistant Secretary, based on review of the ALJ's decision under this paragraph (e), to the alleged victim and the alleged victim's parent(s), legal guardian(s) (as appropriate), or sponsor(s).

* * * * *

Elizabeth J. Gramling,
Executive Secretary, Department of Health and Human Services.

[FR Doc. 2024-30755 Filed 12-23-24; 8:45 am]

BILLING CODE 4184-45-P